DEPARTMENT OF THE INTERIOR

Bureau of Land Management

[LLCO910000-20X-L13100000.PP0000]

Notice of Administrative Boundary Change for Bureau of Land Management Districts in Colorado

AGENCY: Bureau of Land Management, Interior.

ACTION: Notice of district boundary changes.

SUMMARY: The administrative boundaries of the Northwest Colorado District Office, Rocky Mountain District, and Southwest Colorado District are being changed, and the Upper Colorado River District is being created.

DATES: The boundary change takes effect on October 1, 2020.

FOR FURTHER INFORMATION CONTACT: Suzanne Copping, Rocky Mountain District Associate District Manager, telephone: 719-269-8724, email: scopping@blm.gov or Jayson Barangan, BLM Colorado Acting Communications Director, telephone: 303-239-3681, email: jbaranga@blm.gov. Persons who use a use a telecommunications device for the deaf (TDD) may call the Federal Relay Service (FRS) at 1-800-877-8339 to contact Ms. Copping during normal business hours. The FRS is available 24 hours a day, 7 days a week, to leave a message or questions. You will receive a reply during normal business hours.

SUPPLEMENTARY INFORMATION: The administrative boundary change will realign the Gunnison Field Office under the Southwest District; move the Grand Junction Field Office from the Southwest District to the newly created Upper Colorado River District; and move the Colorado River Valley Field Office from the Northwest District to the Upper Colorado River District. Field Office and Fire Unit boundaries will remain the same. This change in administrative boundaries will align district boundaries with BLM Colorado's fire units. All land managed by the Bureau of Land Management in Colorado fall within the Department of the Interior's Upper Colorado Basin—Region 7. This realignment of administrative boundaries does not conflict with the Department's reorganization into 12 unified Interior regions and is fully consistent with the goals of the Department's efforts for efficient government and enhanced coordination.

In 2016, BLM Colorado redrew its district boundaries, establishing the Rocky Mountain District, Northwest Colorado, and Southwest Colorado Districts. The established boundaries from this effort resulted in districts not aligning with the fire units. After implementation, the State Director made a commitment to evaluate the realignment and determine if adjustments would be necessary. To honor the commitment, BLM Colorado sought input in Fall 2019 from its employees, local communities and local government officials, and Tribes, as well as Colorado's congressional delegation on how the 2016 alignment is working. As a result of the evaluation, BLM Colorado is establishing a fourth district—the Upper Colorado River District—and realigning existing districts to match the existing four fire units and better complement the missions of the field offices throughout the state.

The primary purpose of the administrative boundary change is to align BLM Colorado fire units with district boundaries and simplify reporting and oversight structures to enhance wildfire response and wildland firefighter safety. Secondly, aligning district boundaries with more practical geographic features and geopolitical areas will enhance service to the public, as well as coordination with local, county and state agencies and elected officials.

Authority: BLM Manual 1203 Delegation of Authority Sec. 1202 and Sec. 1201 relates to functions of BLM. The delegation manual shows the various delegations of functions to BLM officials, et al., which includes “Approve changes in District and Field Office boundaries.” (See the table of delegations in the manual, specifically subject code 1202.) This authority is retained by the Director, with concurrence by the “Office of the Assistant Secretary” (see footnote 3 in the 1203 Manual). BLM Manual 1201 Organization Management describes organizational policies and standards. Procedures and requirements for organizational change have been followed as described in BLM Manual 1202 Organization Control.

Jamie E. Connell,
Colorado State Director.

[FR Doc. 2020-22575 Filed 10-9-20; 8:45 am]

BILLING CODE 4310-JB-P